DEPARTMENT OF AGRICULTURE

Rural Utilities Service

Associated Electric Cooperative, Inc., Notice of Availability of an Environmental Assessment

AGENCY: Rural Utilities Service, USDA.

ACTION: Notice of availability of an environmental assessment.

SUMMARY: Notice is hereby given that the Rural Utilities Service (RUS) is issuing an environmental assessment with respect to the potential environmental impacts related to the construction of three 100-megawatt, natural gas fired combustion turbine electric generators in west-central Johnson County, Missouri. RUS may provide financing assistance to Associated Electric Cooperative for the project.

FOR FUTHER INFORMATION CONTACT: Bob Quigel, Environmental Protection Specialist, Engineering and Environmental Staff, Rural Utilities Service, Stop 1571, 1400 Independence Avenue, SW., Washington, DC 20250-1571, telephone: (202) 720-0468. Bob's e-mail address is bquigel@rus.usda.gov. Information is also available from Jerry Bindel of Associated Electric Cooperative, P.O. Box 754, Springfield, Missouri 65801-0754 telephone (417) 885-9272. Jerry's e-mail address is jbindel@aeci.org.

SUPPLEMENTARY INFORMATION: Associated Electric Cooperative proposes to construct and operate three, 100-megawatt, simple cycle combustion turbine generators on an 80 acre site in Johnson County, Missouri. The entire plant would use about 11 acres of the site. The site is located approximately 2 miles north of Holden, Missouri. State Highway 131 borders the eastern edge of the site.

The primary fuel for the units would be natural gas with fuel oil backup. The generators are Siemens Westinghouse V84.2 dry low-nitrogen combustors. Each generating unit would be approximately 60 feet wide and 150 feet long. The exhaust stacks would be 90 feet high. An electric substation, a 100-foot by 60-foot maintenance building, water storage tanks, fuel oil storage tank and unloading area, a gas conditioning area and pump house would be located near the combustion turbines. A 150-foot microwave tower would be located on site to enable controlling the plant from a remote location. A 1,300-foot natural gas pipeline and approximately 2.6 miles of electric transmission line will be needed at the site to supply natural gas to the units and connect them to the existing electric transmission grid.

Subsequent to receiving a stormwater permit from the Missouri Department of Natural Resources (MDNR), Associated Electric Cooperative initiated land clearing activities at the site. However, no permanent foundations or plant structures can be constructed on the site until Associated Electric Cooperative has received the air permit for the project from the Air Quality Control Program of the MDNR.

Associated Electric Cooperative prepared an environmental analysis for RUS which describes the project and assesses its environmental impacts. RUS has conducted an independent evaluation of the environmental analysis and believes that it accurately assesses the impacts of the proposed project. This environmental analysis will serve as RUS’ environmental assessment of the project. No significant impacts are expected as a result of the construction of the project.

The environmental assessment can be reviewed at the Associated Electric Cooperative headquarters located at 2814 South Golden Street, Springfield, Missouri 65807-3213. Copies of this document will also be available at the Holden Public Library, 101 West Third Street, Holden, Missouri 64040-1302, telephone (816) 732-4545. It can also be reviewed at the headquarters of RUS at the address provided above.

Questions and comments should be sent to RUS at the address provided. RUS will accept questions and comments on the environmental assessment for at least 30 days from the date of publication of this notice.

Any final action by RUS related to the proposed project will be subject to, and contingent upon, compliance with all relevant Federal environmental laws and regulations and completion of environmental review procedures as prescribed by the 7 CFR part 1794, Environmental Policies and Procedures.

Dated: January 4, 2001.
Lawrence R. Wolfe,
Acting Director, Engineering and Environmental Staff.

[FR Doc. 01-783 Filed 1-11-01; 8:45 am]

BILLING CODE 3410-15-P